DEPARTMENT OF HEALTH AND HUMAN SERVICES

National Institutes of Health

National Institute of Neurological Disorders and Stroke; Amended Notice of Meeting

Notice is hereby given of a change in the meeting of the National Institute of Neurological Disorders and Stroke Special Emphasis Panel, June 20, 2005, 1 p.m. to June 20, 2005, 3 p.m., National Institutes of Health, Neuroscience Center, 6001 Executive Boulevard, Rockville, MD 20852 which was published in the Federal Register on July 14, 2005, 70 FR 05-12271.

The meeting held on June 20, 2005, has been rescheduled to July 26, 2005, from 1-3 p.m. The meeting is closed to the public.

Dated: July 19, 2005.
Anthony M. Coelho, Jr.
Acting Director, Office of Federal Advisory Committee Policy.

[FR Doc. 05-14709 Filed 7-25-05; 8:45 am]

BILLING CODE 4140-01-M